DEPARTMENT OF STATE

[Public Notice 5764]

Shipping Coordinating Committee; Notice of Meeting

The Subcommittee on Safety of Life at Sea of the Shipping Coordinating Committee (SHC) will conduct an open meeting at 9:30 a.m. on Monday, September 10, 2007 in Room 2415, at U.S. Coast Guard Headquarters, 2100 2nd Street, SW., Washington, DC 20593-0001. The primary purpose of this meeting will be to finalize preparations for the 83rd Session of the Maritime Safety Committee, and associated bodies of the International Maritime Organization (IMO), which is scheduled for 3-12 October, 2007 at Bella Center in Copenhagen, Denmark. At this meeting, papers received and the draft U.S. positions for the Maritime Safety Committee will be discussed. Items of principal interest on the agenda are:

—Adoption of amendments to the following international conventions and codes: International Convention for the Safety of Life at Sea (SOLAS) for Long Range Identification and Tracking (LRIT) of ships; the International Maritime Dangerous Goods (IMDG) Code; the International Convention on Standards of Training, Certification and Watchkeeping for Seafarers (STCW); the Fire Safety Systems (FSS) Code; and the International Lifesaving Appliance (LSA) Code.

—Measures to enhance maritime security.

—Goal-based new ship construction standards.

—Formal safety assessment.

—Reports of nine related Subcommittees of the SHC: Stability, Load Lines and Fishing Vessel Safety; Dangerous Goods, Solid Cargoes and Containers; Training, Certification and Watchkeeping; Fire Protection; Radio Communications and Search and Rescue; Ship Design and Equipment; Flag State Implementation; Carriage of Bulk Liquids and Gases; and Safety of Navigation.

Members of the public may attend this meeting up to the seating capacity of the room. Interested persons may seek information by writing to LCDR Kevin Ferrie, Commandant (CG-3PSE-1), U.S. Coast Guard Headquarters, 2100 2nd St., SW., Room 1218, Washington, DC 20593-0001 or by calling (202) 372-1357.

Dated: July 30, 2007.
Mark W. Skolnicki,
Executive Secretary, Shipping Coordinating Committee, Department of State.

[FR Doc. E7-15333 Filed 8-6-07; 8:45 am]

BILLING CODE 4710-09-P